DEPARTMENT OF COMMERCE

National Oceanic and Atmospheric Administration

[I.D. 090303B]

North Pacific Fishery Management Council; Public Meeting

AGENCY: National Marine Fisheries Service (NMFS), National Oceanic and Atmospheric Administration (NOAA), Commerce.

ACTION: Notice of a public meeting.

SUMMARY: The North Pacific Fishery Management Council (Council) IFQ Implementation and Cost Recovery Committee will hold a public meeting.

DATES: The meeting will be held on October 5, 2003, 9 a.m. to 5 p.m.

ADDRESSES: The meeting will be held at the Sheraton Hotel, 401 East 6th Avenue, Yukon Room, Anchorage, AK.

Council address: North Pacific Fishery Management Council, 605 W. 4th Ave., Suite 306, Anchorage, AK 99501-2252.

FOR FURTHER INFORMATION CONTACT: Jane DiCosimo, Council staff, telephone: (907) 271-2809.

SUPPLEMENTARY INFORMATION: The meeting will be held to (1) Review commercial IFQ proposals from 1999 and recent proposals; (2) discuss sale of subsistence halibut.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen at 907-271-2809 at least 7 working days prior to the meeting date.

Dated: September 3, 2003.
Richard W. Surdi,
Acting Director, Office of Sustainable Fisheries, National Marine Fisheries Service.

[FR Doc. 03-22916 Filed 9-8-03; 8:45 am]

BILLING CODE 3510-22-S